INTERNATIONAL TRADE COMMISSION

Government in the Sunshine Act Meeting Notice; [USITC SE-07-001]

Agency Holding the Meeting: United States International Trade Commission.

Time and Date: February 20, 2007 at 11 a.m.

Place: Room 101, 500 E Street SW., Washington, DC 20436, Telephone: (202) 205-2000.

Status: Open to the public.

Matters to be Considered 1. Agenda for future meetings: none.

2. Minutes.

3. Ratification List.

4. Inv. No. 731-TA-739 (Second Review)(Clad Steel Plate from Japan)—briefing and vote. (The Commission is currently scheduled to transmit its determination and Commissioners' opinions to the Secretary of Commerce on or before March 1, 2007.)

5. Inv. No. 731-TA-895 (Review)(Pure Magnesium from China)—briefing and vote. (The Commission is currently scheduled to transmit its determination and Commissioners' opinions to the Secretary of Commerce on or before March 1, 2007.)

6. Outstanding action jackets: none.

In accordance with Commission policy, subject matter listed above, not disposed of at the scheduled meeting, may be carried over to the agenda of the following meeting.

By order of the Commission.
Issued: January 29, 2007.
Marilyn R. Abbott,
Secretary to the Commission.

[FR Doc. 07-462 Filed 1-30-07; 2:17 pm]

BILLING CODE 7020-02-P